DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before January 14, 2019.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on December 7, 2018.
Donald P. Burger,
Chief, General Approvals and Permits Branch.

Special Permits Data—Granted
Application No. | Applicant | Regulation(s) affected | Nature of the special permits thereof
6769-M | The Chemours Company FC LLC | 173.314, 173.315 | To modify the special permit to authorize additional tank cars as approved packaging.
10867-M | Meggitt Safety Systems, Inc | 173.302(a) | To modify the special permit to update current revision letters of cylinder drawings.
11502-M | Federal Express Corporation | 171.23, 172.203(a), 172.301(c) | To modify the special permit to authorize the FedEx Express air manifest to be considered shipping papers when shipping papers are used as a manifest over certain highway routes.
11670-M | Schlumberger Technology Corp | 173.301(f), 173.302a, 173.201(c), 173.202(c), 173.203(c) | To modify the special permit to authorize manufacture, mark and sell of the approved packaging.
11970-M | Univation Technologies, LLC | 173.242, 180.605(h) | To modify the special permit to authorize the pressure test being done pneumatically using nitrogen.
12629-M | TEA Technologies Inc | 173.302a(b)(2), 173.302a(b)(3), 173.302a(b)(4), 173.302a(b)(5), 180.205(c), 180.205(f), 180.205(g), 180.205(i) | To modify the special permit to include UN-ISO 11120 cylinders to list of cylinders authorized for retest.
20351-M | Roeder Cartage Company, Incorporated | 180.407(c), 180.407(e), 180.407(f) | To modify the special permit to remove the requirement for periodic internal visual inspections and to authorize an additional tank dedicated to acetonitrile transportation.
20434-N | Cardinal Professional Products | 173.334(a), 173.334(b), 173.334(d), 173.334(e) | To authorize the transportation in commerce of up to 11.35 kg (25 lbs) of an organic phosphate compound (2,2 dichlorovinyl dimethylphosphate) in a DOT Specification 4BA240, 4BW240, 3A and 3AA cylinder equipped with an eduction (dip) tube without using an overpack.
20507-N | Energy, United States Dept of | 173.302(a) | To authorize the transportation in commerce of non-DOT specification cylinders containing compressed hydrogen.
20511-M | Armotech s.r.o. | 107.807(b)(1), 173.301(a)(1), 173.302(a)(1), 173.302(f)(1), 173.302(f)(2), 178.71(q), 178.71(t) | To modify the special permit to authorize leak testing outside Armotech's facility using Helium Gas Mass Spectrometry to leak test the cylinders.
20645-N | Walmart Inc | 173.159a(c)(2), 173.185(c)(1)(iii), 173.185(c)(1)(iv), 173.185(c)(1)(v), 173.185(c)(3) | To authorize the transportation in commerce of lithium batteries with alternative hazard communication.
20670-N | Envases de Acero, S.A. de C.V | 173.302a(b)(2), 173.302a(b)(3), 173.302a(b)(4), 173.302a(b)(5), 180.205(c), 180.205(f), 180.205(g), 180.209(a), 180.213 | To authorize the transportation in commerce of certain DOT-3AX, 3AAX, 3T, 3AA and 3A cylinders. The cylinders (tubes) are retested by acoustic emission and follow-up ultrasonic examination (AE/UE) described in paragraph 7 below in place of the internal visual inspection and hydrostatic test required by § 180.205.
20681-N | Proserv UK LTD | 173.302(a), 173.304(a), 173.201(c) | To authorize the manufacture, mark, sale and use of a non-DOT specification packaging conforming in part to DOT Specification 3A, except as specified herein, for the transportation in commerce of the materials authorized by this special permit.
20684-N | Linde Gas North America LLC | 179.7, 179.300-15, 180.519(a) | To authorize the manufacture, mark, sale, and use of tank cars that use solid plugs in lieu of pressure relief devices and which are periodically retested in an alternative manner.
20696-N | The Procter & Gamble Company | 173.306(a)(5)(v), 173.306(a)(5)(vi) | To authorize the transportation in commerce of DOT Specification 2S and non-DOT specification plastic non-refillable inside containers that have been tested by an automated in-line pressure check in lieu of the test methods required in the Hazardous Materials Regulations (HMR), the International Civil Aviation Organization's Technical Instructions for the Safe Transport of Dangerous Goods by Air (ICAO TI) and the International Maritime Dangerous Goods (IMDG) Code.
20709-N | Daimler AG | 172.101(j), 173.185(a) | To authorize the transportation in commerce of prototype and low production lithium ion batteries exceeding 35 kg by cargo-only aircraft.
20796-N | Sodastream USA, Inc | 49 CFR Subparts C, D, E, F, and H | To authorize the transportation in commerce of certain DOT 3AL, TC/3ALM and UN ISO 7866 cylinders that contain carbon dioxide, with alternative hazard communication.
20801-N | Walmart Inc | 172.315(a)(2) | To authorize the transportation in commerce of limited quantities of hazardous materials with a reduced size limited quantity marking by motor vehicle and rail freight.
20807-N | Environmental Protection Agency | 49 CFR parts 171-180 | To authorize the transportation in commerce of hazardous materials used to support the recovery and relief operations from and within the Super Typhoon Yutu Response Area (Saipan, Tinian and Rota, CNMI), under conditions that may not meet the Hazardous Materials Regulations (HMR).
20811-N | Environmental Protection Agency | 49 CFR parts 171-180 | To authorize the transportation in commerce of hazardous materials in support of the recovery and relief operations from and within the California fire disaster areas in various parts of the state under conditions that may not meet the Hazardous Materials Regulations (HMR).
Special Permits Data—Denied
20292-M | Nuance Systems LLC | 173.181, 173.302(a), 173.187, 173.201, 173.211 | To authorize a new design of the approved cylinders which will operate at higher temperatures and authorize additional new cylinders.
20623-N | Praxair Distribution, Inc | 172.203(a), 180.205(f), 180.205(g), 180.209(a), 180.209(b), 180.209(f), 180.213(f) | To authorize the transportation in commerce of DOT 3AA cylinders that have been requalified using ultrasonic examination every 15 years in lieu of internal inspection and hydrostatic testing every 5 years.
20701-N | Zhejiang Meenyu Can Industry Co., Ltd | 173.304(a), 173.304(d) | To authorize the manufacture, mark, sale, and use of non-DOT specification receptacles containing certain compressed and liquefied gases.
20710-N | Kerr Corporation | 173.4a(c)(2), 173.4a(e)(2) | To authorize the transportation in commerce of excepted quantities in alternative packagings and greater quantities.
Special Permits Data—Withdrawn

[FR Doc. 2018-27112 Filed 12-13-18; 8:45 am]

BILLING CODE 4909-60-P